DEPARTMENT OF COMMERCE

International Trade Administration

United States Travel and Tourism Advisory Board: Meeting of the United States Travel and Tourism Advisory Board

AGENCY: International Trade Administration, U.S. Department of Commerce.

ACTION: Notice of an open meeting by teleconference.

SUMMARY: The United States Travel and Tourism Advisory Board (Board) will hold an open meeting by teleconference on Thursday, May 14, 2015. The Board was re-chartered on August 19, 2013, to advise the Secretary of Commerce on matters relating to the travel and tourism industry.

During this teleconference, the Board will deliberate on a draft letter to the Secretary outlining the Board's priority recommendations. Board members will also hear an update from the working group formed to help advise on the achievement of the national goal of improving the entry process for international travelers to the United States. The agenda may change to accommodate Board business. The final agenda will be posted on the Department of Commerce Web site for the Board at http://trade.gov/ttab, at least one week in advance of the call.

DATES: Thursday, May 14, 2015, 12:00 p.m.-1:30 p.m. and open for public comments.

ADDRESSES: Via teleconference. Guests are requested to register one week in advance by sending an email to Niara.Phillips@trade.gov.

FOR FURTHER INFORMATION CONTACT: Niara Phillips, the United States Travel and Tourism Advisory Board, Room 4043, 1401 Constitution Avenue NW., Washington, DC 20230, telephone: 202-482-4501, email: niara.phillips@trade.gov.

SUPPLEMENTARY INFORMATION:

Background: The Board advises the Secretary of Commerce on matters relating to the U.S. travel and tourism industry.

Public Participation: The call will be open to the public. All guests are required to register in advance, and will receive a copy of the draft letter upon registering. There will be 15 minutes of time allotted for oral comments from members of the public joining the call. Any member of the public may submit pertinent written comments concerning the Board's affairs at any time before or after the call. Comments may be submitted to Niara Phillips at the contact information indicated above. To be considered during the call, comments must be received no later than 5:00 p.m. EDT on May 7, 2015, to ensure transmission to the Board prior to the call. Comments received after that date and time will be distributed to the members but may not be considered on the call. A recording will be available within 30 days of the call.

Dated: April 22, 2015.
Niara Phillips,
Executive Secretary, United States Travel and Tourism Advisory Board.

[FR Doc. 2015-09731 Filed 4-24-15; 8:45 am]

BILLING CODE 3510-DR-P